DEPARTMENT OF HEALTH AND HUMAN SERVICES

National Institutes of Health

Office of the Director, National Institutes of Health; Notice of Meeting

Pursuant to section 1009 of the Federal Advisory Committee Act, as amended, notice is hereby given of a meeting of the Novel and Exceptional Technology and Research Advisory Committee.

The meeting will be held as a virtual meeting and will be open to the public as indicated below. Individuals who plan to view the virtual meeting and need special assistance or other reasonable accommodations to view the meeting should notify the Contact Person listed below in advance of the meeting. The meeting will be videocast and can be accessed from the NIH Videocasting and Podcasting website (https://videocast.nih.gov/).

Name of Committee: Novel and Exceptional Technology and Research Advisory Committee.

Date: December 3, 2024.

Time: 11:00 a.m.-12:00 p.m.

Agenda: The Novel and Exceptional Technology and Research Advisory Committee (NExTRAC) will receive an update from the Working Group on Engaging the Public as Partners in Clinical Research and discuss the next steps regarding the current charge to the committee, delivered in August 2023.

Address: National Institutes of Health, Rockledge I, 6705 Rockledge Drive, Suite 630, Bethesda, MD 20892.

Meeting Format: Virtual Meeting.

Meeting Access Link: Virtual Meeting Link will be available at https://osp.od.nih.gov/policies/novel-and-exceptional-technology-and-research-advisory-committee-nextrac#tab4/.

Contact Person: Jessica Tucker, Ph.D., Office of Science Policy, National Institutes of Health, 6705 Rockledge Drive, Suite 630, Bethesda, MD 20892, 301-496-9838, SciencePolicy@od.nih.gov.

Any interested person may file written comments by forwarding the statement to the Contact Person listed on this notice at least two business days prior to the meeting date. The statement should include the name, address, telephone number and when applicable, the business or professional affiliation of the interested person. Other than name and contact information, please do not include any personally identifiable information or any information that you do not wish to make public. Proprietary, classified, confidential, or sensitive information should not be included in your comments. Please note that any comments NIH receives may be posted unredacted to the Office of Science Policy website.

Information is also available on the NIH Office of Science Policy website: https://osp.od.nih.gov/policies/novel-and-exceptional-technology-and-research-advisory-committee-nextrac#tab4, where an agenda, link to the webcast meeting, and any additional information for the meeting will be posted when available. Materials for this meeting will be posted prior to the meeting. Please check this website for updates.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: November 7, 2024.
David W. Freeman,
Supervisory Program Analyst, Office of Federal Advisory Committee Policy.

[FR Doc. 2024-26426 Filed 11-13-24; 8:45 am]

BILLING CODE 4140-01-P